DEPARTMENT OF ENERGY

Federal Energy Regulatory Commission

Combined Notice of Filings #1

Take notice that the Commission received the following exempt wholesale generator filings:

Docket Numbers: EG12-95-000.

Applicants: Bobcat Bluff Wind Project, LLC.

Description: Notice of Self-Certification of Exempt Wholesale Generator of Bobcat Bluff Wind Project, LLC.

Filed Date: 7/27/12.

Accession Number: 20120727-5178.

Comments Due: 5 p.m. ET 8/17/12.

Take notice that the Commission received the following electric rate filings:

Docket Numbers: ER11-2664-002.

Applicants: Powerex Corp.

Description: Powerex Corp. Response to Staff Data Request and Request for Expedited Treatment and Shortened Comment Period.

Filed Date: 7/27/12.

Accession Number: 20120727-5183.

Comments Due: 5 p.m. ET 8/10/12.

Docket Numbers: ER12-2343-000.

Applicants: AEP Energy, Inc.

Description: Notice of Succession AEP Energy, Inc. to be effective 6/29/2012.

Filed Date: 7/27/12.

Accession Number: 20120727-5156.

Comments Due: 5 p.m. ET 8/17/12.

Docket Numbers: ER12-2344-000.

Applicants: New England Power Company.

Description: Interconnection Agreement between New England Power and Barre Energy Partners to be effective 9/26/2012.

Filed Date: 7/27/12.

Accession Number: 20120727-5158.

Comments Due: 5 p.m. ET 8/17/12.

Docket Numbers: ER12-2345-000.

Applicants: PJM Interconnection, L.L.C.

Description: Revisions to the PJM OATT & OA re Quality Project Review related to Credit Rules to be effective 9/28/2012.

Filed Date: 7/27/12.

Accession Number: 20120727-5166.

Comments Due: 5 p.m. ET 8/17/12.

Docket Numbers: ER12-2346-000.

Applicants: Southwest Power Pool, Inc.

Description: Southwest Power Pool, Inc. submits tariff filing per 35.13(a)(2)(iii: 1154R7 Associated Electric Cooperative, Inc. NITSA NOA to be effective 7/1/2012.

Filed Date: 7/30/12.

Accession Number: 20120730-5047.

Comments Due: 5 p.m. ET 8/20/12.

Docket Numbers: ER12-2347-000.

Applicants: Southwest Power Pool, Inc.

Description: Southwest Power Pool, Inc. submits tariff filing per 35.13(a)(2)(iii: 2158R2 Arkansas Electric Cooperative Corporation NITSA NOA to be effective 7/1/2012.

Filed Date: 7/30/12.

Accession Number: 20120730-5048.

Comments Due: 5 p.m. ET 8/20/12.

Docket Numbers: ER12-2348-000.

Applicants: PacifiCorp.

Description: PacifiCorp submits tariff filing per 35.13(a)(2)(iii: OATT Revised Section 13 and Schedule 10 to be effective 12/25/2011.

Filed Date: 7/30/12.

Accession Number: 20120730-5049.

Comments Due: 5 p.m. ET 8/20/12.

Take notice that the Commission received the following land acquisition reports:

Docket Numbers: LA12-2-000.

Applicants: Duke Energy Corporation, Carolina Power & Light Company, Cimarron Windpower II, LLC, CinCap V, LLC, Duke Energy Commercial Asset Management, Inc., Duke Energy Commercial Enterprises, Inc., Duke Energy Carolinas, LLC, Duke Energy Fayette II, LLC, Duke Energy Hanging Rock II, LLC, Duke Energy Indiana, Inc., Duke Energy Kentucky, Inc., Duke Energy Lee II, LLC, Duke Energy Ohio, Inc., Duke Energy Retail Sales, LLC, Duke Energy Washington II, LLC, Florida Power Corporation, Happy Jack Windpower, LLC, Ironwood Windpower, LLC, Kit Carson Windpower, LLC, North Allegheny Wind, LLC, Silver Sage Windpower, LLC, St. Paul Cogeneration, LLC, Three Buttes Windpower, LLC Top of the World Energy, LLC.

Description: Quarterly Generation Site Acquisition Report of Duke Energy Corporation.

Filed Date: 7/30/12.

Accession Number: 20120730-5042.

Comments Due: 5 p.m. ET 8/20/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2012.
Nathaniel J. Davis, Sr.,
Deputy Secretary.

[FR Doc. 2012-19098 Filed 8-3-12; 8:45 am]

BILLING CODE 6717-01-P